DEPARTMENT OF LABOR

Office of the Secretary

Submission for OMB Review; Comment Request

January 15, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility.

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Employment Standards Administration (ESA).

Title: Report of Ventilatory Study (CM-907), Roentgenographic (CM-933), Roentgenographic Quality Rereading (CM-933b), Medical History and Examination for Coal Mine Workers' Pneumoconiosis (CM-988), Report of Arterial Blood Gas Study (CM-1159) and Report of Ventilatory Study (CM-2907).

OMB Number: 1215-0090.

Affected Public: Business or other for-profit and Not-for-profit institutions.

Frequency: On Occasion.

Responses and Estimated Burdens:

Form | Number of respondents | Annual responses | Per response (in minutes) | Total burden hours
CM-907 | 100 | 100 | 20 | 33
CM-933 | 6,000 | 6,000 | 5 | 500
CM-933b | 5,000 | 5,000 | 5 | 417
CM-988 | 5,000 | 5,000 | 30 | 2,500
CM-1159 | 5,000 | 5,000 | 15 | 1,250
CM-2907 | 4,900 | 4,900 | 20 | 1,634
Totals | 26,000 | 26,000 |  | 6,334

Total Annualized Capital/Startup Costs: $0.

Total Annual Costs (operating/maintaining systems or purchasing services): $7,418.25.

Description: 20 CFR 718 specifies that certain information relative to the medical condition of a claimant who is alleging the presence of pneumoconiosis be obtained as a routine function of the claim adjudication process. The medical specifications in the regulations have been formatted in a variety of forms to promote efficiency and accuracy in gathering the required data. These forms were designed to meet the need to establish medical evidence. If this information were not gathered, determinations on total disability could not be made.

Ira L. Mills,
Departmental Clearance Officer.

[FR Doc. 02-2239 Filed 1-29-02; 8:45 am]

BILLING CODE 4510-CK-M